DEPARTMENT OF HOMELAND SECURITY

Coast Guard

33 CFR Part 165

[Docket No. USCG-2022-0759]

Safety Zone; Rio Vista Bass Derby Fireworks, Sacramento River, Rio Vista, CA

AGENCY: Coast Guard, DHS.

ACTION: Notification of enforcement of regulation.

SUMMARY: The Coast Guard will enforce the safety zone for the Rio Vista Bass Derby Fireworks Display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM) or other Federal, State, or local law enforcement agencies on scene to assist the Coast Guard in enforcing the regulated area.

DATES: The regulations in 33 CFR 165.1191, will be enforced for the location in Table 1 to § 165.1191, Item number 23, from 10 a.m. through 9:30 p.m. on October 8, 2022.

FOR FURTHER INFORMATION CONTACT: If you have questions about this notification of enforcement, call or email MST1 Shannon Curtaz-Milian, Waterways Management, U.S. Coast Guard Sector San Francisco; telephone (415) 399-7440, email SFWaterways@uscg.mil.

SUPPLEMENTARY INFORMATION: The Coast Guard will enforce the safety zone established in 33 CFR 165.1191 Table 1, Item number 23, for the Rio Vista Bass Derby Fireworks Display from 10 a.m. through 9:30 p.m. on October 8, 2022.

The safety zone will extend to all navigable waters of the Sacramento River, from surface to bottom, within a circle formed by connecting all points 100 feet out from the fireworks barge during the loading, transit, and arrival of the fireworks barge from the loading location to the display location and until the start of the fireworks display. From 10 a.m. through 4 p.m. October 8, 2022, the fireworks barge will load pyrotechnics from the Dutra Group, Oly Yard 615 River Road, Rio Vista, CA. The fireworks barge will remain at the loading location until its transit to the display location. From 7:45 p.m. to 7:55 p.m. on October 8, 2022 the loaded fireworks barge will transit from the Dutra Group, Oly Yard 615 River Road, Rio Vista, CA to the launch site off of Rio Vista, CA in approximate position 38°09′16.00″ N, 121°41′17.00″ W (NAD 83), where it will remain until the conclusion of the fireworks display. During the 15-minute fireworks display, scheduled to begin at approximately 8:45 p.m. on October 8, 2022, and 30 minutes after the conclusion of the fireworks display, the safety zone will increase in size and encompass all navigable waters of the Sacramento River, from surface to bottom, within a circle formed by connecting all points 1000 feet out from the fireworks barge near Rio Vista, CA in approximate position 38°09′16.00″ N, 121°41′17.00″ W (NAD 83). This safety zone will be enforced from 10 a.m. until 9:30 p.m. on October 8, 2022, or as announced via Broadcast Notice to Mariners.

In addition to this notification of enforcement in the Federal Register, the Coast Guard plans to provide notification of this enforcement period via the Local Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person who receives notice of a lawful order or direction issued by the PATCOM or Official Patrol shall obey the order or direction. The PATCOM or Official Patrol may, upon request, allow the transit of commercial vessels through regulated areas when it is safe to do so.

If the Captain of the Port determines that the regulated area need not be enforced for the full duration stated in this notice, a Broadcast Notice to Mariners may be used to grant general permission to enter the regulated area.

Dated: September 23, 2022.
Taylor Q. Lam,
Captain, U.S. Coast Guard, Captain of the Port, San Francisco.

[FR Doc. 2022-21098 Filed 9-28-22; 8:45 am]

BILLING CODE 9110-04-P